DEPARTMENT OF THE INTERIOR

Office of the Secretary

[199D1114PT DS62100000 DPTA00000.000000; OMB Control Number 1093-0005]

Agency Information Collection Activities; Payments in Lieu of Taxes (PILT) Act, Statement of Federal Lands Payments

AGENCY: Office of the Secretary, Office of Budget.

ACTION: Notice of information collection; request for comment.

SUMMARY: In accordance with the Paperwork Reduction Act of 1995, the Office of the Secretary, Office of Budget is proposing to renew an information collection.

DATES: Interested persons are invited to submit comments on or before July 15, 2019.

ADDRESSES: Send your comments on this information collection request (ICR) by mail to the U.S. Department of the Interior, Office of the Secretary, Office of Budget, Attn: Dionna Kiernan, 1849 C Street NW, MS 4106 MIB, Washington, DC 20240 or by email to doi_pilt@ios.doi.gov. Please reference OMB Control Number 1093-0005 in the subject line of your comments.

FOR FURTHER INFORMATION CONTACT: Dionna Kiernan by email at doi_pilt@ios.doi.gov, or by telephone at 202-513-7783.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 13, 2019 (84 FR 3814 Page 3814-3815), by the Office of the Secretary, Office of Budget, soliciting comments from the public and other interested parties. No public comments were received.

We are soliciting comments on the proposed ICR that is described below. We are especially interested in public comment addressing the following issues: (1) Is the collection necessary to the proper functions of the Office of Budget; (2) will this information be processed and used in a timely manner; (3) is the estimate of burden accurate; (4) how might the Office of Budget enhance the quality, utility, and clarity of the information to be collected; and (5) how might the Office of Budget minimize the burden of this collection on the respondents, including through the use of information technology.

Comments that you submit in response to this notice are a matter of public record. We will include or summarize each comment in our request to the Office of Management and Budget (OMB) to approve this ICR. Before including your address, phone number, email address, or other personal identifying information in your comment, you should be aware that your entire comment—including your personal identifying information—may be made publicly available at any time. While you can ask us in your comment to withhold your personal identifying information from public review, we cannot guarantee that we will be able to do so.

Abstract: “Payments in Lieu of Taxes” (PILT) are Federal payments to local governments that help offset losses in property taxes due to non-taxable Federal lands within their boundaries. The original law is Public Law 94-565, dated October 20, 1976. This law was rewritten and amended by Public Law 97-258 on September 13, 1982 and codified at Chapter 69, Title 31 of the United States Code. The law recognizes the financial impact of the inability of local governments to collect property taxes on Federally-owned land.

The PILT Act requires the Governor of each State to furnish the Department of the Interior with a listing of payments disbursed to local governments by the States on behalf of the Federal Government under 12 statutes described in Section 6903 of 31 U.S.C. The Department of the Interior uses the amounts reported by States to reduce PILT payments to units of general local governments from that which they might otherwise receive. If such listings were not furnished by the Governor of each affected State, the Department would not be able to compute the PILT payments to units of general local government within the States in question.

In fiscal year 2004, administrative authority for the PILT program was transferred from the Bureau of Land Management to the Office of the Secretary of the Department of the Interior. Applicable DOI regulations pertaining to the PILT program to be administered by the Office of the Secretary were published as a final rule in the Federal Register on December 7, 2004 (69 FR 70557). The Office of the Secretary, Office of Budget, is now planning to extend the information collection approval authority in order to enable the Department of the Interior to continue to comply with the PILT Act.

Title of Collection: Payments in Lieu of Taxes (PILT) Act, Statement of Federal Lands Payments.

OMB Control Number: 1093-0005.

Form Number: None.

Type of Review: Extension of a currently approved collection.

Respondents/Affected Public: State governments.

Total Estimated Number of Annual Respondents: 49.

Total Estimated Number of Annual Responses: 49.

Estimated Completion Time per Response: 40 hours.

Total Estimated Number of Annual Burden Hours: 1,960 hours.

Respondent's Obligation: Required to Obtain or Retain a Benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Scott J. Cameron,
Principal Deputy Assistant Secretary, Policy, Management and Budget.

[FR Doc. 2019-12514 Filed 6-12-19; 8:45 am]

BILLING CODE 4334-63-P